DEPARTMENT OF HEALTH AND HUMAN SERVICES

Centers for Disease Control and Prevention

[Docket Number NIOSH-063]

National Institute for Occupational Safety and Health Meeting

The National Institute for Occupational Safety and Health (NIOSH) of the Centers for Disease Control and Prevention (CDC) announces the following public meeting:

Name: Stakeholders' Meeting to Seek Input on the NIOSH Fire Fighter Fatality Investigation and Prevention Program (FFFIPP)

Meeting Date and Time: March 22, 2006, 9 a.m.-5 p.m.

Place: Washington Court Hotel, Atrium Ballroom, 525 New Jersey Avenue NW., Washington, DC 20001.

Status: This meeting is hosted by NIOSH and will be open to the public, limited only by the space available. The meeting room will accommodate approximately 120 people. Interested parties should make hotel reservations directly with the Washington Court Hotel (202-628-2100 or 800-321-3010) and reference the NIOSH Fire Fighter Meeting. Interested parties should confirm their attendance to this meeting by completing a registration form and forwarding it by e-mail to the NIOSH Event Management Office, npptlevents@cdc.gov or fax (304-225-2003). A registration form may be obtained from the NIOSH Web site: http://www.cdc.gov/niosh/fire/pdfs/registration.pdf.

Purpose: The public meeting will seek stakeholder input on the progress and future directions of the NIOSH FFFIPP to ensure that the program is meeting the needs of the stakeholders, and to identify ways in which the program can be improved to increase its impact on the safety and health of fire fighters across the United States. NIOSH will compile and consider all comments received at the meeting and through the NIOSH docket and use them in making decisions on how to proceed with FFFIPP.

Background: NIOSH convened a similar stakeholders' meeting in January 1998 to seek input to help guide the planning for the FFFIPP. The input provided by stakeholders at that meeting was very valuable in providing insight into stakeholder needs and in helping to establish the FFFIPP. The March 2006 meeting will be held to again seek stakeholder input.

A document, “National Institute for Occupational Safety and Health (NIOSH) Fire Fighter Fatality Investigation and Prevention Program, 1998-2005” may be obtained from the NIOSH Web site http://www.cdc.gov/niosh/fire/progress.html or http://www.cdc.gov/niosh/fire/pdfs/progress.pdf. This document summarizes FFFIPP progress, possible future directions, and specific areas of NIOSH interest for stakeholder input. Copies of the document will also be available at the March 22, 2006 stakeholders' meeting.

Format of Meeting: The NIOSH Director, Dr. John Howard, will provide opening remarks, followed by NIOSH presentations that provide an overview of the FFFIPP and possible future directions. Representatives from seven stakeholder groups have accepted invitations to give 15-minute presentations on the usefulness of the FFFIPP and program products in their efforts to improve fire fighter safety and health, and their suggestions for enhancing the impact of the program and future directions. Stakeholders who will be giving presentations represent the United States Fire Administration, National Volunteer Fire Council, National Fire Protection Association, National Fallen Firefighters Foundation, National Wildfire Coordinating Group, International Association of Fire Chiefs, and International Association of Fire Fighters.

An opportunity to make oral presentations will be provided to other interested parties, given available time on the agenda. The agenda currently includes time for fifteen 5-minute presentations from other stakeholders. Requests to make such presentations at the meeting should be made by e-mail to the NIOSH Event Management Office (npptlevents@cdc.gov). All requests to present should include the name, address, telephone number, relevant business affiliations of the presenter, and a brief summary of the presentation. Oral presentations will be limited to 5 minutes. After reviewing the requests for presentation, NIOSH Event Management will notify each presenter of the approximate time that their presentation is scheduled to begin. If a participant is not present when their presentation is scheduled to begin, the remaining participants will be heard in order. The meeting will end with an interactive session providing the opportunity for clarification of stakeholder comments.

Written comments without an oral presentation are also encouraged, and should be submitted to the NIOSH Docket Office as outlined in the next section.

Docket: Written comments on the usefulness of the FFFIPP program and products for improving fire fighter safety and health and suggestions for enhancing the impact of the program and future directions should be mailed to: NIOSH Docket Office, Robert A. Taft Laboratories, M/S C34, 4676 Columbia Parkway, Cincinnati, Ohio 45226, Telephone 513-533-8303, Fax 513-533-8285. Comments may also be submitted by e-mail to niocindocket@cdc.gov. E-mail attachments should be formatted in Microsoft Word. Comments should be submitted to NIOSH no later than April 22, 2006, and should reference the Docket Number in the subject heading.

For Additional Information: Logistical Contact: NIOSH Event Management, 3604 Collins Ferry Road, Suite 100, Morgantown, West Virginia 26505-2353, Telephone 304-599-5941 x138, Fax 304-225-2003, E-mail npptlevents@cdc.gov; Technical Contact: Dawn Castillo, Chief, Surveillance and Field Investigations Branch, Division of Safety Research, 304-285-6012.

The Director, Management Analysis and Services Office, has been delegated the authority to sign Federal Register notices pertaining to announcements of meetings and other committee management activities, for both CDC and the Agency for Toxic Substances and Disease Registry.

Dated: February 23, 2006.
Alvin Hall,
Director, Management Analysis and Services Office, Centers for Disease Control and Prevention.

[FR Doc. E6-2837 Filed 2-28-06; 8:45 am]

BILLING CODE 4163-18-P